DEPARTMENT OF COMMERCE

National Oceanic and Atmospheric Administration

RIN 0648-XC792

Western Pacific Fisheries; Approval of a Marine Conservation Plan for Pacific Insular Areas; Western Pacific Sustainable Fisheries Fund

AGENCY: National Marine Fisheries Service (NMFS), National Oceanic and Atmospheric Administration (NOAA), Commerce.

ACTION: Notice of agency decision.

SUMMARY: NMFS announces approval of a marine conservation plan for Pacific Insular Areas other than American Samoa, Guam, and the Northern Mariana Islands.

DATES: This agency decision is effective from August 1, 2013, through July 31, 2016.

ADDRESSES: Copies of the marine conservation plan, identified by NOAA-NMFS-2013-0126, are available from www.regulations.gov, or the Western Pacific Fishery Management Council (Council), 1164 Bishop St., Suite 1400, Honolulu, HI 96813, tel 808-522-8220.

FOR FURTHER INFORMATION CONTACT: Jarad Makaiau, Sustainable Fisheries, NMFS Pacific Islands Regional Office, 808-944-2108.

SUPPLEMENTARY INFORMATION: Section 204(e) of the Magnuson-Stevens Fishery Conservation and Management Act (Magnuson-Stevens Act) authorizes the Secretary of State, with the concurrence of the Secretary of Commerce (Secretary) and in consultation with the Council, to negotiate and enter into a Pacific Insular Area fishery agreement (PIAFA). A PIAFA would allow foreign fishing within the U.S. Exclusive Economic Zone (EEZ) adjacent to any Pacific Insular Area other than American Samoa, Guam, or the Northern Mariana Islands, that is, in the EEZ around the Pacific remote island areas (PRIA). The PRIA are Baker Island, Howland Island, Jarvis Island, Johnston Atoll, Kingman Reef, Midway Island, Wake Island, and Palmyra Atoll. Before entering into a PIAFA, the Council must develop a 3-year Marine Conservation Plan (MCP) providing details on uses for any funds collected by the Secretary under the PIAFA.

The Magnuson-Stevens Act requires that payments received under a PIAFA, and any funds or contributions received in support of conservation and management objectives for the PRIA, be deposited into the Western Pacific Sustainable Fisheries Fund (Fund) for use by the Council. Additionally, amounts received by the Secretary attributable to fines and penalties imposed under the Magnuson-Stevens Act for violations by foreign vessels occurring within the EEZ off any PRIA are also deposited into the Fund for use by the Council.

An MCP must be consistent with the Council's fishery ecosystem plans, must identify conservation and management objectives (including criteria for determining when such objectives have been met), and must prioritize planned marine conservation projects. The Council, at its 157th meeting held June 26-28, 2013, reviewed and approved this MCP and recommended its submission to the Secretary for approval.

The MCP contains five conservation and management objectives, and identifies major task areas for planned activities, as follows:

Objective 1. Support quality research and obtain the most complete scientific information available to assess and manage fisheries within an ecosystem approach.

a. Support cooperative research on U.S. purse seine vessels fishing on fish aggregation devices in the PRIA.

b. Support tagging studies in the PRIA to provide better understanding of pelagic species.

c. Support collection and analysis of life history characteristics of federally managed species through bio-sampling.

Objective 2. Conduct education and outreach to foster good stewardship principles and broad and direct public participation in the Council decision-making process by supporting education and outreach activities related to sustainable fisheries management of pelagic fisheries in the PRIA.

Objective 3. Promote regional cooperation to manage domestic and international fisheries, by participating in international fishery policy development in Pacific Regional Fishery Management Organizations.

Objective 4. Encourage development of technologies and methods to achieve the most effective level of monitoring, control, and surveillance, and to ensure safety at sea.

a. Support pilot programs to test new technologies for information gathering, in coordination with federal, state, and industry representatives.

b. Support observer programs or other monitoring efforts that are adequate to monitor the harvest, bycatch, and compliance of foreign fishing vessels that fish under a PIAFA in the PRIA.

c. Participate in Pacific-wide vessel monitoring system consultations.

Objective 5. Support activities that promote western Pacific community demonstration projects and the western Pacific community development program.

Section 204(e)(7)(C) of the Magnuson-Stevens Act authorizes the Council to use monies deposited into the Fund to meet conservation and management objectives in the State of Hawaii, consistent with the Fishery Ecosystem Plan for the Hawaii Archipelago. The MCP includes an appendix describing these objectives. At the 157th meeting, the Council recommended amendments to the appendix relating to fisheries research.

The MCP also outlines a process by which the Council's Executive Committee could revisit the project ranking to adapt to changing management needs.

This notice announces that NMFS has determined that the PRIA MCP satisfies the requirements of the Magnuson-Stevens Act and approves the MCP for the 3-year period from August 1, 2013, through July 31, 2016.

Dated: August 7, 2013.
Emily H. Menashes,
Deputy Director, Office of Sustainable Fisheries, National Marine Fisheries Service.

[FR Doc. 2013-19499 Filed 8-9-13; 8:45 am]

BILLING CODE 3510-22-P